DEPARTMENT OF JUSTICE

Executive Office for Immigration Review

[EOIR No. 157]

Revised General Practice Regarding First Briefing Deadline Extension Request for Detained Aliens

AGENCY: Board of Immigration Appeals, Executive Office for Immigration Review, Department of Justice.

ACTION: Notice.

SUMMARY: This notice updates an earlier advisal of a revised general practice to be followed by the Board of Immigration Appeals regarding briefing deadlines for cases before the Board in which the alien is detained. The former notice stated that the additional time period granted for a first briefing extension will generally be reduced from 21 days to 15 days, and the number of extension requests granted will generally be reduced from one per party to one per case. After further consideration, the 21 day briefing schedule will be retained. The number of extension requests granted per case, however, will still be generally reduced to one.

DATES: This notice is effective upon publication.

FOR FURTHER INFORMATION CONTACT: Kevin Chapman, Acting General Counsel, Executive Office for Immigration Review, 5107 Leesburg Pike, Suite 2600, Falls Church, Virginia 22041; telephone (703) 305-0470 (not a toll free call).

SUPPLEMENTARY INFORMATION: In an earlier notice, the Board of Immigration Appeals (Board) announced a change in its practice relating to briefing schedules in detained case. 71 FR 40151 (July 14, 2006). The commentary in that notice is incorporated herein by reference. In that notice, the Board stated that in cases involving detained aliens, it would henceforth normally grant only one extension request per case, as opposed to one extension request per party. It also reduced the amount of time generally granted for any briefing extension from 21 days to 15 days.

The Board received comments from a large number of entities claiming that the reduction in the amount of time for briefing extensions would have a negative effect on detained aliens with respect to securing representation. In particular, the commenters argued that this would have an adverse impact on the Board's Pro Bono Project.

The Board has reconsidered its policy change as to the amount of time granted for briefing extensions. The Board will continue to grant 21 day briefing extensions. As advised in the prior Federal Register notice, however, the Board will change its practice regarding the number of briefing extensions granted, and will generally grant only one briefing extension per case when the alien is detained.

Dated: August 22, 2006.
Lori Scialabba,
Chairman, Board of Immigration Appeals.

[FR Doc. 06-7268 Filed 8-30-06; 8:45 am]

BILLING CODE 4410-30-M